SECURITIES AND EXCHANGE COMMISSION

[Release No. 34-94609; File No. SR-IEX-2021-14]

Self-Regulatory Organizations; Investors Exchange LLC; Notice of Withdrawal of a Proposed Rule Change To Amend Its Fee Schedule for Market Data Fees

April 5, 2022.

On November 1, 2021, Investors Exchange LLC (“IEX”) filed with the Securities and Exchange Commission (“Commission”), pursuant to Section 19(b)(1) of the Securities Exchange Act of 1934 ¹ and Rule 19b-4 thereunder,² a proposed rule change to amend its Fee Schedule for Market Data Fees. The proposed rule change was immediately effective upon filing with the Commission pursuant to Section 19(b)(3)(A) of the Act.³ The proposed rule change was published for comment in the Federal Register on November 17, 2021.⁴ On December 30, 2021, the Commission temporarily suspended the proposed rule change and instituted proceedings under Section 19(b)(2)(B) of the Act ⁵ to determine whether to approve or disapprove the proposed rule change.⁶ On April 1, 2022, IEX withdrew the proposed rule change (SR-IEX-2021-14).

¹ 15 U.S.C. 78s(b)(1).

² 17 CFR 240.19b-4.

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release No. 93557 (November 10, 2021), 86 FR 64268 (November 17, 2021).

⁵ 15 U.S.C. 78s(b)(2)(B).

⁶ See Securities Exchange Act Release No. 93883 (December 30, 2021), 87 FR 523 (January 5, 2022).

For the Commission, by the Division of Trading and Markets, pursuant to delegated authority.⁷
⁷ 17 CFR 200.30-3(a)(12).
J. Matthew DeLesDernier,
Assistant Secretary.

[FR Doc. 2022-07624 Filed 4-8-22; 8:45 am]

BILLING CODE 8011-01-P